DEPARTMENT OF THE INTERIOR

Bureau of Land Management

[DOI-BLM-NV-W010-2020-0012-EIS; LLNVW00000.L51100000.GN0000. LVEMF1907180.19X .MO# 4500149816]

Notice of Availability of the Final Environmental Impact Statement for the Proposed Thacker Pass Project, Two Plans of Operations Submitted by Lithium Nevada Corporation for Mining and Exploration in Humboldt County, Nevada

AGENCY: Bureau of Land Management, Interior.

ACTION: Notice of availability.

SUMMARY: In accordance with the National Environmental Policy Act of 1969, as amended (NEPA), and the Federal Land Policy and Management Act of 1976, as amended, the Bureau of Land Management (BLM) Humboldt River Field Office, Winnemucca, Nevada, as the lead agency, has prepared the Thacker Pass Lithium Mine Project Final Environmental Impact Statement (EIS), for the proposed Lithium Mine Project Proposed Plans of Operations and Reclamation Plan Permit Applications (the Project) in Humboldt County, Nevada, and by this notice announces the availability of the FEIS. In accordance with the Bald and Golden Eagle Protection Act (Eagle Act), the Fish and Wildlife Service (FWS) is a cooperating agency with the BLM on the development of this FEIS and has used it to analyze the potential impacts of approving LNC's request for an incidental take permit for golden eagles. FWS has evaluated the LNC's Eagle Conservation Plan (ECP), which describes their request for incidental take of eagles and a 5-year incidental take permit for golden eagles under the Eagle Act.

DATES: The BLM will not issue a final decision on the proposal for a minimum of 30 days after the Environmental Protection Agency publishes its notice of availability of the Thacker Pass Lithium Mine Project Final EIS DOI-BLM-NV-W010-2020-0012-EIS in the Federal Register. BLM will coordinate with the FWS on impacts to golden eagles and the Eagle Act permitting process prior to signing a Record of Decision.

ADDRESSES: Copies of North-South Exploration and the Thacker Pass Mine Plans of Operations and the Thacker Pass Project Final EIS are available for public inspection on the internet at https://bit.ly/2Npgf9l.

FOR FURTHER INFORMATION CONTACT: For questions about the proposed Project contact Mr. Ken Loda, Lead Geologist, Bureau of Land Management Humboldt River Field Office telephone: (775) 623-1500, address: 5100 East Winnemucca Boulevard, Winnemucca, Nevada 89445. For questions concerning the Eagle Act permitting process, contact Mr. Thomas Leeman, Deputy Chief, Migratory Bird Program, U.S. Fish and Wildlife Service, Department of the Interior Region 10, at (916) 978-6189. Persons who use a telecommunications device for the deaf (TDD) may call the Federal Relay Service (FRS) at 1-800-877-8339 to contact either of the above individuals during normal business hours. The FRS is available 24 hours a day, 7 days a week, to leave a message or question with either one of the above individuals. You will receive a reply during normal business hours.

SUPPLEMENTARY INFORMATION: The applicant, LNC proposes to construct, operate, reclaim, and eventually close an open pit lithium mine, processing operation, and continued exploration activities (the Project), on public lands in northern Humboldt County, Nevada.

LNC currently has two approved Plans of Operation, one for exploration and one for a specialty clay mine, approved within the area proposed for the new lithium mine. There are 75 acres of exploration disturbance approved under LNC's existing exploration Plan, and 140 acres of existing disturbance approved under their clay mine Plan.

LNC has submitted two new Plans of Operations to develop the Project and to provide a description of the proposed lithium mining, processing, and exploration operations. Each of these new Plans of Operation include a reclamation plan for the activities identified under its respective Plan of Operation. The operations proposed under the two new Plans of Operation would involve a project area of about 18,000 acres, with an ultimate disturbance footprint of approximately 5,700 acres. The new lithium mine Plan of Operation boundary overlaps the existing approved Plan boundaries.

LNC proposes to develop the Project in two phases over the estimated 41-year mine life. Pending LNC receiving the required authorizations and permits for Phase 1 of the Project, pre-stripping would commence in early 2021, and construction in the first quarter of 2021, with mining production and ore processing estimated to commence in late 2022. LNC estimates that it would complete mining, processing, and concurrent reclamation activities in 2061, after which, reclamation, site closure activities, and post-closure monitoring would occur for a minimum of five years.

The proposed activities and facilities associated with the Project include development of an open pit mine, construction and operation of lithium processing and production facilities, mine facilities to support mining operations, two waste rock storage facilities, a run-of-mine stockpile, a clay tailings filter stack, water supply facilities, two power transmission lines and substations, and various ancillary facilities. Pit dewatering is not expected to be required as part of the Project until 2055, and concurrent backfill of the open pit would occur after sufficient volume has been excavated to initiate direct placement of waste rock. Exploration would be conducted under both new Plans. In addition, the Project would affect golden eagle nests and territories by planned blasting within a two-mile radius of golden eagle nests; therefore, LNC has requested authorization from the FWS to disturb eagle nests and a 5-year incidental take permit for golden eagles under the Eagle Act. The permit application includes an Eagle Conservation Plan, which contains commitments to avoid, minimize, and mitigate adverse effects on golden eagles resulting from the implementation of the Project. Issuance of an eagle take permit must comply with the Eagle Act and all related regulatory requirements (50 CFR 22.26).

The Final EIS describes and analyzes the proposed Project's direct, indirect, and cumulative impacts on all affected resources. In addition to the Proposed Action, Alternative A, the following alternatives are also analyzed in the document: Alternative B, which is a partial backfilling of the pit that would result in a small wet area; Alternative C which does not backfill the pit and would result in three small, and probably seasonal, pit lakes; and the No Action Alternative. Alternatives A, B and C include an application for an eagle take permit for loss of productivity of three golden eagle breeding pairs. Additionally, Alternative C would require nest site enhancement as compensatory mitigation under the Bald and Golden Eagle Protection Act.

A Notice of Availability (NOA) of the Draft Environmental Impact Statement (EIS) for the proposed Project was published in the Federal Register on July 31, 2020 (85 FR 10460). Two virtual public meetings were held during the comment period. The BLM received 63 public comment documents during the 45-day comment period. The documents contained 813 individual substantive comments which included concerns on potential impacts to groundwater quality, potential impacts to springs and stream flows in the surrounding area of the mine, storage and management of waste rock and tailings, grazing allotments, and mine closure. These comments were considered and addressed in Appendix R (Comments Responses) of the Final EIS.

Comments on the Draft EIS received from the public and internal BLM review were considered and incorporated, as appropriate, into the Final EIS. Public comments resulted in corrections or the addition of clarifying text but did not significantly change the proposed action.

The BLM has consulted with the Nevada State Historic Preservation Office (SHPO) on the Project in accordance with the 2014 State Protocol Agreement between the BLM and Nevada SHPO for Implementing the National Historic Preservation Act. The BLM has determined that the Project would cause adverse effects to 57 historic properties and the Nevada SHPO has concurred. The BLM and Nevada SHPO recently executed a Memorandum of Agreement to resolve adverse effects to the 57 historic properties. The specific actions necessary to resolve adverse effects to historic properties would be carried out if the Project is authorized, prior to Project implementation.

The BLM has consulted and continues to consult with Indian tribes on a government-to-government basis in accordance with Executive Order 13175 and other policies. Tribal concerns, including impacts to Indian trust assets and potential impacts to cultural resources have been analyzed in the Final EIS.

(Authority: 40 CFR 1506.6 and 43 CFR 1506.10)

Ester M. McCullough,
Winnemucca District Manager.

[FR Doc. 2020-26599 Filed 12-3-20; 8:45 am]

BILLING CODE 4310-HC-P